ENVIRONMENTAL PROTECTION AGENCY

[OPP-2005-0173; FRL-7744-6]

Phenothrin; Amendment to Terminate Use

AGENCY: Environmental Protection Agency (EPA).

ACTION: Notice.

SUMMARY: This notice announces EPA's order for the amendment to terminate use, voluntarily requested by the registrant and accepted by the Agency, of a product containing the pesticide phenothrin, pursuant to section 6(f)(1) of the Federal Insecticide, Fungicide, and Rodenticide Act (FIFRA), as amended. This order follows a July 20, 2005 (corrected August 3, 2005) Federal Register Notice of Receipt of a Request from the registrant Hartz Mountain Corporation to voluntarily amend to terminate certain uses of their product Hartz Ref 119. The use of this product as a spot-on for cats and kittens will be terminated. In the July 20, 2005 Notice, EPA indicated that it would issue an order implementing the amendment to terminate use no earlier than October 31, 2005. EPA further indicated that the request for termination of use was irrevocable. The Agency did not receive any comments on the Notice. Accordingly, EPA hereby issues in this Notice an order granting the requested amendment to terminate use. Any distribution, sale, or use of the product Hartz Ref 119 is permitted only in accordance with the terms of this order, including any existing stocks provisions.

DATES: The order to terminate use is effective November 9, 2005.

FOR FURTHER INFORMATION CONTACT: Ann Sibold, Registration Division (7505C), Office of Pesticide Programs, Environmental Protection Agency, 1200 Pennsylvania Ave., NW., Washington, DC 20460-0001; telephone number: (703) 305-6502; fax number: (703) 305-9596; e-mail address: sibold.ann@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0173. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, to access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces the amendment to terminate use, as requested by the registrant, of Hartz Ref 119, an end-use product containing phenothrin as a spot-on to control fleas and ticks on cats and kittens, registered under section 3 of FIFRA. This registration is listed in Table 1 of this unit.

Table 1.—Product Registration Amendment to Terminate Use
EPA Registration No. | Product Name
2596-151 | Hartz Ref 119

Table 2 of this unit includes the name and address of record for the registrant of the product in Table 1 of this unit.

Table 2.—Registrant of Amended Product
EPA Company No. | Company Name and Address
2596 | The Hartz Mountain Corporation, 400 Plaza Drive Secaucus, NJ 07094-3688

III. Summary of Public Comments Received and Agency Response to Comments

During the public comment period provided, EPA received no comments in response to the July 20, 2005 Federal Register Notice¹ (70 FR 41717) (FRL-7724-1) announcing the Agency's receipt of the request for an amendment to terminate the affected use of Hartz Ref 119.

IV. Order

Pursuant to FIFRA section 6(f), EPA hereby approves the requested amendment to terminate the affected use of the Hartz Ref 119 registration identified in Table 1 of Unit II. Accordingly, the Agency orders that the product registration identified in Table 1 of Unit II. is hereby amended to terminate the affected use effective November 9, 2005. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the order to terminate use. The order issued in this Notice includes the following existing stocks provisions.

Products in the United States that have been packaged, labeled, and released for shipment prior to the effective date of the order terminating use on cats and kittens may be sold or distributed by Hartz from its facilities until December 31, 2005. After December 31, 2005, Hartz may not sell or distribute product labeled for use on cats and kittens. Products labeled for use on cats and kittens may be sold or distributed by persons other than the registrant until March 31, 2006. After this date, products so labeled may not be sold or distributed unless for the purposes of proper disposal or export.

¹A sentence was inadvertenly omitted from the DATES unit which provided a 30-day public comment period. It also inadvertenly omitted an ADDRESSES unit for the submission of comments. A correction Notice published in the Federal Register of August 3, 2005 (70 FR 44636) (FRL-7728-8).

List of Subjects

Environmental protection, Pesticides and pests.

Dated: October 28, 2005.
Lois Rossi,
Director, Registration Division, Office of Pesticide Programs.

[FR Doc. 05-22256 Filed 11-8-05; 8:45 am]

BILLING CODE 6560-50-S